DEPARTMENT OF HEALTH AND HUMAN SERVICES

Office of Inspector General

Program Exclusions: February 2001

AGENCY: Office of Inspector General, HHS.

ACTION: Notice of program exclusions.

During the month of February 2001, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, City, State | Effective date
Program-Related Convictions
Abcunas, Maryann, Lowell, MA | 03/20/2001
Adler, Jacob, Valley Village, CA | 03/20/2001
Agcaoili, Sonia Maritess, Long Beach, CA | 03/20/2001
Allbritton, Carolyn Diane, Shreveport, LA | 03/20/2001
Anderson, Susan Hope, Pocola, OK | 03/20/2001
Azu, Philip, White Deer, PA | 03/20/2001
Bennett, Vincent, Bernard, Detroit, MI | 03/20/2001
Bonsu, Osei A., Lilburn, GA | 03/20/2001
Boodram, Suresh, Massapequa, NY | 03/20/2001
Boyadzhyan, Nerses, Los Angeles, CA | 03/20/2001
Cararie, Francis N., Finleyville, PA | 03/20/2001
Chhugani, Jagi, Rego Park, NY | 03/20/2001
Clayton, Nolan C., Walterboro, SC | 03/20/2001
Cottle, John P., Edgefiled, SC | 03/20/2001
Davis, Troy R., Glendale, AZ | 03/20/2001
Dunster, Misty L., Montpelier, VT | 03/20/2001
Eastman, Kathryn, Coloma, MI | 03/20/2001
Evans, Clarence J., Brooklyn, NY | 03/20/2001
Evans, Linda Faye, Simsboro, LA | 03/20/2001
Fann, Edward C., St. Louis, MO | 03/20/2001
Gaumond, Jody Lynn, Methuen, MA | 03/20/2001
Gibbs, Lisa A., Providence, RI | 03/20/2001
Green, Michael Jerome, Jackson, MS | 03/20/2001
Guzek, Robert, Valparaiso, IN | 03/20/2001
Guzman, Emilia, Miami, FL | 03/20/2001
Halladay, Kathryn Clara, Torrance, CA | 03/20/2001
Healthtek, Inc., Vancouver, WA | 03/20/2001
Hope, Robert B., Ogden, UT | 03/20/2001
Hughes, Larry M., Kansas City, MO | 03/20/2001
Johnson, Deana Tanner, Hurst, TX | 03/20/2001
Karu, Louise May, Oakland, CA | 03/20/2001
Ketsoyan, Levon, Eloy, AZ | 03/20/2001
King, John Victor, III, Southfield, MI | 03/20/2001
Kleaveland, Joan Sherry, Benton Harbor, MI | 03/20/2001
Koral, Allen, Jericho, NY | 03/20/2001
Lang, Joel J., Cheverly, MD | 03/20/2001
Leistritz, Mark Brandon, Austin, TX | 03/20/2001
Meulener, Lazaro, Miami, FL | 03/20/2001
Ochoa, Marlene Santana, Miami, FL | 03/20/2001
Oni, Oluremi, Providence, RI | 03/20/2001
Papisian, Hagop, Granada Hills, CA | 03/20/2001
Prater, Carolyn Sue, Hueysville, KY | 03/20/2001
Redonado, Ileana, Fort Lee, NJ | 03/20/2001
Sand, Scott Robert, Lake Arrowhead, CA | 03/20/2001
Santana, Ana Luisa Gonzalez, Hialeah, Fl | 03/20/2001
Santana, Milagro, Miami, FL | 03/20/2001
Sefiljian, Karine M., Valencia, CA | 03/20/2001
Simmons, Stephanie, Baltimore, MD | 03/20/2001
Syal, Harshbala, Northridge, CA | 03/20/2001
Turner, Thomas Phares, Oklahoma, OK | 03/20/2001
Villamor, Manuel A., Miami, FL | 03/20/2001
Virzi, Nina, Bryn Mawr, PA | 03/20/2001
Wilner, Alan, Roslyn Estates, NY | 03/20/2001
Wilson, Susan Arnsdorff, Leavenworth, WA | 03/20/2001
Zarza, Jose, Blounstown, FL | 03/20/2001
Felony Conviction for Health Care Fraud
Bates, Tammy Lavon, Perkin, IL | 03/20/2001
Hayes, Ruth Ann, Roanoke, VA | 03/20/2001
Sanchez Christina, L., Albuquerque, NM | 03/20/2001
Felony Control Substance Conviction
Banerjee, Haradhan, Cleveland, OH | 03/20/2001
Burke, Debra L., Ebensburg, PA | 03/20/2001
Cobb, Timothy L., Yuma, AZ | 03/20/2001
Deberry, Carroll S., Beaver, WV | 03/20/2001
Fredebaugh, Loreal L., Mentor, OH | 03/20/2001
Frisby, Julie Ann, Fayetteville, AR | 03/20/2001
Gormley, Daniel Littleton, Co | 03/20/2001
Hinds, Donald Edward, II, Indianapolis, IN | 03/20/2001
Khan, Mudassir Ali, New York, NY | 03/20/2001
Kovach, Kathleen A., Sheffield, OH | 03/20/2001
Miller, Robert J., Ackron, OH | 03/20/2001
Veasley, Audrey Nannette, Milwaukee, WI | 03/20/2001
Patient Abuse/Neglect Convictions
Argueta, Edward A., Seaside Park, NJ | 03/20/2001
Bationg, Geobi W., Enid, OK | 03/20/2001
Briscoe, Willie Earl, Houston, TX | 03/20/2001
Clark, Vunner, Sledge, MS | 03/20/2001
Dukes, Tia A., Bioloxi, MS | 03/20/2001
Foster, Synthia Ann, Enid, OK | 03/20/2001
Gillis, David H., Cincinnati, OH | 03/20/2001
Griggs, Della, Mooreland, IN | 03/20/2001
Howell, Hollis Dewayne, Meridian, MS | 03/20/2001
Hughes, Kinsha, Forest, MS | 03/20/2001
Laferriere, James A., Cranston, RI | 03/20/2001
Lampley, Sybil D., Laureal, MS | 03/20/2001
Linzay, Philip Andrew, Alexandria, LA | 03/20/2001
Luvine, Jennifer, Mount Olive, MS | 03/20/2001
McCormack, Alvin Peter, Carson, WA | 03/20/2001
Moore, Mary L., Summerton, SC | 03/20/2001
O'Connor, Gayle Lee, Glendale, CA | 03/20/2001
Oglesby, Willie, Ripley, MS | 03/20/2001
People, Donald, Decatur, AL | 03/20/2001
Tillman, George A., Paris, MO | 03/20/2001
Tucker, Roshae, Laurel, MS | 03/20/2001
Weitz, Todd N., Titusville, FL | 03/20/2001
Conviction for Health Care Fraud
Kutcher-Olivo, Robert, Condado, PR | 03/20/2001
License Revocation/Suspension/Surrendered
Adams, Shirley Ann, Bellevue, IA | 03/20/2001
Alamillo, Raquel, Denver, CO | 03/20/2001
Anderson, Sharron Lee, Boise, ID | 03/20/2001
Andrews, Sharlie Jane, Palm Desert, CA | 03/20/2001
Banayan, Farajollah, Mordechai, Los Angeles, CA | 03/20/2001
Barton, Tammy R., Iowa City, IA | 03/20/2001
Booth, Jamie Lee, Simi Valley, CA. | 03/20/2001
Borresen, Elizabeth Anne, Apple Valley, MN | 03/20/2001
Bowles, Theodore Archie, Macon, GA | 03/20/2001
Brown, Dorothy I., Plymouth MTG, PA | 03/20/2001
Bugbee, Michele Sue, Claremont, NH | 03/20/2001
Burton, Cori Ann, Ft. Worth, TX | 03/20/2001
Byrd, Marie S., Fayetteville, Ga | 03/20/2001
Cekala, Pamela S., N. Stonington, CT | 03/20/2001
Charron, Keith R., Lyndonville, VT | 03/20/2001
Chimento, Tammy D., Goose Creek, SC | 03/20/2001
Cohen, Jack J., Brooklyn, NY | 03/20/2001
Conant, Mark R., Brawley, CA | 03/20/2001
Connell, Christopher, Oklahoma City, OK | 03/20/2001
Cookson, Philip Andrew, San Diego, CA | 03/20/2001
Cooper, Lucinda Henderson, Jefferson, NY | 03/20/2001
Cooper, Sarah H., Charles, SC | 03/20/2001
Cundiff, David Keith, Long Beach, CA | 03/20/2001
Custer, Christine L., Oakdale, CT | 03/20/2001
Defelice, Louis J., Parker, CO | 03/20/2001
Dell, Gary L., Jr., London, OH | 03/20/2001
Dinkel, Arthur, R., Jr., Denville, NJ | 03/20/2001
Domke, Michele S., Salt Lake City, UT | 03/20/2001
Dunn, Mary Frances, Waco, TX | 03/20/2001
Ebbs Barbara Ann, Bellevue, ID | 03/20/2001
Fisch, Alan, Brookline, MA | 03/20/2001
Folsom, Cay M., Mason City, IA | 03/20/2001
Fuller, Sharon Denise, Atlanta, GA | 03/20/2001
Gahner, Duane, Jamestown, ND | 03/20/2001
Gaither, James, Indianapolis, IN | 03/20/2001
Gonzalez, Gilbert J., Atlanta, GA | 03/20/2001
Gray, Sheri A., Anderson, SC | 03/20/2001
Greenwell, Nancy H., Deary, ID | 03/20/2001
Hall, Sybil M., New Albany, IN | 03/20/2001
Halligan, Mavis E., Garland, TX | 03/20/2001
Hardcastle, Brian, Grainesville, FL | 03/20/2001
Havet, Keith E., Covina, CA | 03/20/2001
Hawkins, Renee K., Moore, SC | 03/20/2001
Herring, Cynthia, Hempstead, TX | 03/20/2001
Hersey, Leslie E., Woodsville, NH | 03/20/2001
Hicks, Jennifer A., Lyme, NH | 03/20/2001
Hinnen, Gerhard J., Dadeville, Al | 03/20/2001
Holmes, Linda K., Rock Hill, SC | 03/20/2001
Janic, Michael Arthur, Irwin, PA | 03/20/2001
Johnson, Cora Beth, Marquette Hgts, IL | 03/20/2001
Johnson, James E., Nashville, TN | 03/20/2001
Jones, Michael R., Gainesville FL | 03/20/2001
Jordan, Terry Lee, Sherman, TX | 03/20/2001
Jubert, Angela K., Carmel, IN | 03/20/2001
Kaplan, Herbert Arthur, Los Angeles, CA | 03/20/2001
Kerner, Jacqueline S., Woodridge, IL | 03/20/2001
King, Grant M., Pomona, CA | 03/20/2001
Klein, Alice R., Austin, TX | 03/20/2001
Klein, Jerri Lynn, Granite City, IL | 03/20/2001
Kotz, Teri Ross, Smithland, IA | 03/20/2001
Krain, Lawrence Stirling, Chicago, IL | 03/20/2001
Kupczynski, Richard B., Chicago, IL | 03/20/2001
Laforest, Janet, Manchester, CT | 03/20/2001
Langer, Lisa Ann, Champaign, IL | 03/20/2001
Lanza, Dorothy, Derby, CT | 03/20/2001
Lee, Yoon Bom, New Smyrana Beach, FL | 03/20/2001
Lindsey, Joseph Fidel, Norton, OH | 03/20/2001
Long, Shirley M., Dormont, PA | 03/20/2001
Lozano, Tony Atilano, Anaheim, CA | 03/20/2001
Luh, Hsiou-Kuang, Fountain Valley, CA | 03/20/2001
Madison, Veronica Sue, Wood River, IL | 03/20/2001
Madsen, Steven, Fargo, ND | 03/20/2001
Magina, Maria Katherine, Mountain View, CA | 03/20/2001
Maples, Jerald Eugene, Harrah, OK | 03/20/2001
Mathes, Michael Eugene, Boise, ID | 03/20/2001
McGuines, Christina J., Buffalo, NY | 03/20/2001
Mcillece, Elizabeth Campbell, Cedar Park, TX | 03/20/2001
McMillan, Kris Phillip, Roselle, IL | 03/20/2001
McRae, Elizabeth, Norwalk, CT | 03/20/2001
Montano, Grethe Martens, Anatone, WA | 03/20/2001
Morales, Jorge A., Plymouth, NH | 03/20/2001
Morris, Sharon W., Savannah, GA | 03/20/2001
Morris, Marjorie Christine, Kearns, UT | 03/20/2001
Murray, Theodore Banal, Monterey, CA | 03/20/2001
Musick, Janna Denise, Davie, FL | 03/20/2001
Nantt, Luella, Dickinson, ND | 03/20/2001
Neil, Edwin J., Beaverton, OR | 03/20/2001
Norton, Kathy L., Dawson, IA | 03/20/2001
Nowik, James A., Rhinebeck, NY | 03/20/2001
O'Toole, Rita Kay Atwood Winn, Jerome, ID | 03/20/2001
Ogle, Linda Louise, Seatle, WA | 03/20/2001
Orr, Penny Lee, Wyoming, IL | 03/20/2001
Pennington, Ellen M., Mt Sterling, OH | 03/20/2001
Perugini, Katherine A., Oakville, CT | 03/20/2001
Peters, Susan Kay, Houston, TX | 03/20/2001
Piech, Christie Lynn, Hammond, IN | 03/20/2001
Piecznski, Bradley John, Warrenville, IL | 03/20/2001
Plante, Elizabeth A., Hollis, NH | 03/20/2001
Pool, Dennis Ray, Covina, CA | 03/20/2001
Porter, Ola M., Corpus Christi, TX | 03/20/2001
Pratis, Jennifer Lynn, Morris, IL | 03/20/2001
Prince, Vicki Lynn, Troy, IL | 03/20/2001
Pryor, Mario Antwan, Chicago, IL | 03/20/2001
Qualls, Marilyn, Chicago, IL | 03/20/2001
Quandt, Marian L., Waterloo, IA | 03/20/2001
Quarles, Norrice Lamon, E Moline, IL | 03/20/2001
Ray, Stephen Christop, Chicago, IL | 03/20/2001
Reddy, Janardhan Bokka, Schenectady, NY | 03/20/2001
Rhodes, Robin Arlene, Granbury, TX | 03/20/2001
Rivera, Pedro I., Hutchins, TX | 03/20/2001
Rivera, Santos, Jr., Chicago, IL | 03/20/2001
Rodriguez, Cynthia V., San Antonio, TX | 03/20/2001
Rodriguez, Karen Dawn, Ft Myers, FL | 03/20/2001
Romanowski, Melanie Laura, Wheaton, IL | 03/20/2001
Safarcyk, Luke Allen, Morris, IL | 03/20/2001
Sanchez, Susanna, Chicago, IL | 03/20/2001
Sanders, Sandra L., Greenfield, TN | 03/20/2001
Schmitt, George M., Pittsburgh, PA | 03/20/2001
Schnelten, Eric Dewayne, Roodhouse, IL | 03/20/2001
Schurman, Virginia A., Portsmouth, RI | 03/20/2001
Seagle, Iris Jean, Muskogee, OK | 03/20/2001
Seale, Shay Lynn, Mountain View, OK | 03/20/2001
Sealy, Shurland Hassim, Orlando, FL | 03/20/2001
Seiz, Eric Kent, Springfield, IL | 03/20/2001
Sheldon, Peggy, Boise, ID | 03/20/2001
Sieber, Cori Lynn, Oak Harbor, WA | 03/20/2001
Sivas, Edward Daniel, Apple Valley, CA | 03/20/2001
Smith, Sarah C., Powder Springs, GA | 03/20/2001
Smotherman, Charlie Joe, Denison, TX | 03/20/2001
Snyder, Jeremiah Jay, Ralston, OK | 03/20/2001
Sorensen, Dorothy, Santa Fe, NM | 03/20/2001
Stafford, Robert Wesley, Denison, TX | 03/20/2001
Stamos, George Peter, Chicago, IL | 03/20/2001
Stewart, Ralph Christopher, Richmond, VA | 03/20/2001
Sundry, Vincent, Tarpon Springs, FL | 03/20/2001
Thomas, Shawn K, Gardena, CA | 03/20/2001
Thomas, Elizabeth Ann, Chicago, IL | 03/20/2001
Thompson, Gerone Thadius, San Bernardino, CA | 03/20/2001
Tracey, Matthew A., Miami, FL | 03/20/2001
Tran, Yen NGOC, Chicago, IL | 03/20/2001
Tremallo, Fayette, Stratford, CT | 03/20/2001
Triplett, Wallace, Jr., Chicago, IL | 03/20/2001
Tripp, Loring, Sarasota, FL | 03/20/2001
Tucker, James Edward, Manhattan Bch, CA | 03/20/2001
Ventrucci, Timothy M., Hurley, WI | 03/20/2001
Vest, Richard, Ririe, ID | 03/20/2001
Wallace, Cathy A., Chicago, IL | 03/20/2001
Weigand, David W., Somerset, NJ | 03/20/2001
Wheat, William, Palm Harbor, FL | 03/20/2001
Williams, Martin R., Monteray, CA | 03/20/2001
Williams, Needra A., Chicago, IL | 03/20/2001
Wineinger, Nancy Ann, Amarillo, TX | 03/20/2001
Zevallos, Carlos A., Sun Valley, CA | 03/20/2001
Federal/State Exclusion/Suspension
Benedict, Gisele, Joshua Tree, CA | 03/20/2001
Cheregi, Ioan, Skokie, IL | 03/20/2001
Garcen-Ciallella, Gina, Ford, NJ | 03/20/2001
Krivoruchoko, Arkadiy, Vernon Hills, IL | 03/20/2001
Fraud/Kickbacks
Krepps, Cathleen S., Grand Junction, CO | 06/29/2001
Owned/Controlled by Convicted Excluded
Knoxville Medical Mgmt. Group, Knoxville, TN | 03/20/2001
W. Knoxville Family Medical Ctr., Knoxville, TN | 03/20/2001
Worthington Family Medical Ctr., Knoxville, TN | 03/20/2001
Failure To Provide Payment Information
Brown, Virgious B., Paincourtville, LA | 03/20/2001
Default on Heal Loan
Buford, John I., Philadelphia, PA | 03/20/2001
Chambers, Jamie L., Seattle, WA | 03/20/2001
Darish, Susan B., Malden, MA | 03/20/2001
Donaghe, Brian L., Templeton, CA | 03/20/2001
Ellis, Detra L., Hamilton, AL | 03/20/2001
Evans, Carl D., Chagrin, Falls, OH | 03/20/2001
Friedman, Gary S., Old Bridge, NJ | 03/20/2001
Girault, Gisele J., Grantham, NH | 03/20/2001
Goldstein, Sheryl L., Perkasie, PA | 03/20/2001
Gross, George E., Arlington, TX | 01/31/2001
Hensgen, Kara L., Portland, OR | 03/20/2001
Holahan, Gordon V., Jr., Narragansett, RI | 03/20/2001
Holloway, Jimmy D., El Paso, TX | 03/20/2001
Hudgins, Mark A., Fort Wayne, IN | 03/20/2001
Hunger, Edwin L., Jr., San Diego, CA | 03/20/2001
Klein, Howard Seth, Pompano Bch, FL | 03/20/2001
Ladore-McFarland, Bonnie G., Riverside, CA | 03/20/2001
Martin, Deo Victor, San Francisco, CA | 03/20/2001
Matthews, William E., Mars, PA | 03/20/2001
Meshesha, Moges M., Houston, TX | 03/20/2001
Muszik, Joseph K., Sharon, PA | 03/20/2001
Namie, Ruth F., Benicia, CA | 03/20/2001
Nigro, Bruce M., Sebring, FL | 03/20/2001
Ninomiya, Jesse K., Honolulu, HI | 03/20/2001
Nkuku, Christopher N., Berkeley, IL | 03/20/2001
Owen, Michael D., Ashland, OR | 03/20/2001
Pham, Vinh H., Las Vegas, NV | 03/20/2001
Phillips, Constance K., San Francisco, CA | 03/20/2001
Powell, Dorothy J., Temple Hills, MD | 03/20/2001
Rose Myrtle F., Dallas, TX | 02/08/2001
Russell, Mark D., Columbia, MO | 03/20/2001
Shelton, Annette Marie, Arlington, TX | 03/20/2001
Thames, Douglas A., Pitman, NJ | 03/20/2001
Villaverde, John J., Birmingham, Al | 03/20/2001
Wahl, David G., Montgomery, MN | 01/25/2001
Washington, George L., Antioch, TN | 03/20/2001
Wheeler, Cynthia L., Belleville, IL | 03/20/2001

Dated: March 5, 2001.
Calvin Anderson, Jr.,
Director, Health Care Administrative Sanctions, Office of Inspector General.

[FR Doc. 01-6206 Filed 3-12-01; 8:45 am]

BILLING CODE 4150-04-M